DEPARTMENT OF ENERGY

Agency Information Collection Extension

AGENCY: U.S. Department of Energy.

ACTION: Notice and Request for Comments.

SUMMARY: The Department of Energy (DOE), pursuant to the Paperwork Reduction Act of 1995, intends to extend for three years, an information collection package with the Office of Management and Budget (OMB) used by the Department to exercise management oversight and control over contractors including management and operating (M&O) contractors operating DOE's facilities. This information is used by the Department to perform management oversight regarding implementation of applicable statutory, regulatory and contractual requirements and obligations. The collection is critical to ensure that the Government has sufficient information to judge the degree to which contractors are meeting requirements, that public funds are spent in an efficient and effective manner and that fraud, waste and abuse are avoided.

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before February 8, 2005. If you anticipate difficulty in submitting comments within that period, contact the person listed below as soon as possible.

ADDRESSES: Written comments may be sent to: Richard Langston, ME-61, Procurement Policy Analyst, Office of Procurement and Assistance Policy, Office of Procurement and Assistance Management, U.S. Department of Energy, 1000 Independence Ave, SW., Washington, DC 20585, or by fax at 202-287-1345 or by e-mail at richard.langston@hq.doe.gov and to Sharon Evelin, Acting Director, Records Management Division, IM-11/Germantown Bldg., Office of the Chief Information Officer, U.S. Department of Energy, 1000 Independence Ave, SW., Washington, DC 10585-1290, or by fax at 301-903-9061 or by e-mail at sharon.evelin@hq.doe.gov.

FOR FURTHER INFORMATION CONTACT: Requests for additional information or copies of the information collection instrument and instructions should be directed to Richard Langston at the address listed above.

SUPPLEMENTARY INFORMATION: This package contains: (1) OMB No.: 1910-4100; (2) Package Title: Procurement; (3) Type of Review: renewal; (4) Purpose: This information is required by the Department to ensure that DOE contracts including management and operation contractors operating DOE facilities are managed efficiently and effectively and to exercise management oversight of DOE contractors; (5) Respondents: 3,811; (6) Estimated Number of Burden Hours: 1,086,529.

Statutory Authority: Department of Energy Organization Act, Pub. L. 95-91, as amended.

Issued in Washington, DC, on December 2, 2004.
Sharon Evelin,
Acting Director, Records Management Division, Office of the Chief Information Officer.

[FR Doc. 04-27143 Filed 12-9-04; 8:45 am]

BILLING CODE 6450-01-P